Title 3—

The President

Proclamation 7972 of December 22, 2005

National Mentoring Month, 2006

By the President of the United States of America

A Proclamation

Through countless acts of kindness, mentors across America are changing our Nation for the better. Every child deserves the opportunity to realize the promise of our country, and mentors show that a single soul can make a difference in a young person's life. During National Mentoring Month, we recognize the many individuals who dedicate their time, talents, and energy to help children develop character and integrity.

Mentors are soldiers in the armies of compassion, sharing their time to help provide a supportive example for a young person. Mentors help children resist peer pressure, achieve results in school, stay off drugs, and make the right choices. Many people become mentors because of the impact of a mentor in their own lives, creating a chain of compassion over the course of generations.

My Administration remains committed to promoting mentoring as an opportunity to strengthen our country. Through the Helping America's Youth initiative, led by First Lady Laura Bush, we will continue to focus on identifying best practices and programs across this great Nation that are changing lives for the better and helping young people grow up to be responsible and successful adults.

In 2006, my Administration will support funding programs to mentor children who have a parent in prison and for youth at risk of gang influence and involvement. The Federal Government can also help local communities by fostering communication between those who are running successful programs and those who want to get involved. Americans can find valuable mentoring opportunities in their hometown by visiting the USA Freedom Corps website at www.USAFreedomCorps.gov or calling 1-877-USACORP.

I appreciate the faith-based and community organizations and all those dedicated to improving the lives of America's children through mentoring. By showing love, support, and compassion, one person can make a difference in the life of a child and help that child learn the importance of serving a cause greater than self. The teachers, coaches, religious leaders, relatives, and other caring adults who mentor contribute to a culture of good citizenship. Their efforts strengthen our country and demonstrate the great influence of one person's kindness and its ability to touch a life.

NOW, THEREFORE, I, GEORGE W. BUSH, President of the United States of America, by virtue of the authority vested in me by the Constitution and laws of the United States, do hereby proclaim January 2006 as National Mentoring Month. I call upon the people of the United States to recognize the importance of mentoring, to look for opportunities to serve as mentors in their communities, and to observe this month with appropriate activities and programs.

IN WITNESS WHEREOF, I have hereunto set my hand this twenty-second day of December, in the year of our Lord two thousand five, and of the Independence of the United States of America the two hundred and thirtieth.

B

[FR Doc. 05-24641

Filed 12-27-05; 9:32 am]

Billing code 3195-01-P